DEPARTMENT OF THE INTERIOR

Bureau of Ocean Energy Management

[Docket No. BOEM-2018-0067]

Commercial Renewable Energy Transmission on the Outer Continental Shelf Offshore New York and New Jersey; Notice of Proposed Grant Area and Request for Competitive Interest

AGENCY: Bureau of Ocean Energy Management, Interior.

ACTION: Public notice.

SUMMARY: The purpose of this public notice is to: Describe the New York and New Jersey Ocean Grid proposed by Anbaric Development Partners, LLC (ADP); determine if there is competitive interest in a right-of-way (ROW) grant for renewable energy purposes in the area identified in this notice; and solicit public input regarding the proposal, its potential environmental consequences, and other uses of the area in which the proposal would be located.

DATES: If you are submitting an indication of interest in acquiring a ROW grant for the area ADP requested, your submission must be sent by mail, postmarked no later than July 19, 2019 for your submission to be considered. If you are providing comments or other information, you may send them by mail, postmarked by this same date, or you may submit them through the Federal Rulemaking Portal at http://www.regulations.gov, also by this same date.

ADDRESSES: If you are submitting an indication of competitive interest for a ROW grant, please submit it by mail to the following address: Bureau of Ocean Energy Management, Office of Renewable Energy Programs, 45600 Woodland Road, Mailstop: VAM-OREP, Sterling, VA 20166. Submissions must be postmarked by July 19, 2019 to be considered by BOEM in determining whether there is competitive interest. In addition to a paper copy of your submission, include an electronic copy on a compact disc or portable storage device. BOEM will list the parties that submit indications of competitive interest in the area ADP requested on the BOEM website after the 30-day comment period has closed.

If you are submitting comments and other information concerning the proposed grant area, you may use either of the following two methods:

1. Federal eRulemaking Portal: http://www.regulations.gov. In the entry entitled, “Enter Keyword or ID,” enter BOEM-2018-0067 and then click “search.” Follow the instructions to submit public comments and view supporting and related materials available for this notice.

2. Alternatively, you may submit comments by mail to the following address: Bureau of Ocean Energy Management, Office of Renewable Energy Programs, 45600 Woodland Road, Mailstop: VAM-OREP, Sterling, VA 20166.

If you wish to protect the confidentiality of your submissions or comments, clearly mark the relevant sections and request that BOEM treat them as confidential. Please label privileged or confidential information “Contains Confidential Information” and consider submitting such information as a separate attachment. Treatment of confidential information is addressed in the section of this notice entitled, “Privileged or Confidential Information.” BOEM will post all comments on regulations.gov unless labeled as confidential. Information that is not labeled as privileged or confidential will be regarded by BOEM as suitable for public release.

FOR FURTHER INFORMATION CONTACT: Casey Reeves, Project Coordinator, BOEM, Office of Renewable Energy Programs, 45600 Woodland Road, Mailstop: VAM-OREP, Sterling, VA 20166, (703) 787-1671.

SUPPLEMENTARY INFORMATION: On April 30, 2018, the Bureau of Ocean Energy Management (BOEM) received an application from ADP, later revised on June 22, 2018, for a ROW grant on the Outer Continental Shelf (OCS) offshore New York and New Jersey. ADP's proposed project, the New York and New Jersey Ocean Grid (NY/NJ Ocean Grid), would entail the construction, installation, and operation of an offshore transmission system of approximately 185 nautical miles of submarine cable on the OCS and approximately 118 nautical miles of submarine cable on State submerged lands to deliver offshore wind energy generation to the onshore electric grid. The NY/NJ Ocean Grid also includes the siting of several offshore collector platforms (OCPs), each connected to one or more high voltage submarine cables to onshore points of interconnection. Each proposed OCP would be designed to handle 800 to 1,200 MW of offshore wind energy generation with the ability to connect multiple offshore wind projects and accommodate phased development within BOEM's designated Wind Energy Areas (WEAs).

BOEM is publishing this Request for Competitive Interest (RFCI) pursuant to subsection 8(p)(3) of the OCS Lands Act (43 U.S.C. 1337(p)(3)) and 30 CFR 585.306-307. Subsection 8(p)(3) of the OCS Lands Act requires that OCS renewable energy leases, easements, and ROWs be issued “on a competitive basis unless the Secretary determines after public notice of a lease, easement, or right-of-way that there is no competitive interest.” The regulations at 30 CFR 585.306-307 set forth BOEM's procedures for making such determinations for ROW grants. This RFCI provides public notice of the proposed ROW grant area that ADP requested, and invites the submission of indications of competitive interest. BOEM will consider the responses to this public notice to determine whether competitive interest exists for the area ADP requested, as required by 43 U.S.C. 1337(p)(3). Parties wishing to obtain a grant for the area that ADP requested should submit detailed and specific information, as described in the section entitled, “Required Indication of Interest Information.” This announcement also requests interested and affected parties to comment and provide information about site conditions and existing and future uses of the area identified in this notice that would be relevant to the proposed project or its impacts. BOEM has described the type of information that it is requesting in the section entitled, “Requested Information from Interested or Affected Parties.”

Purpose of the RFCI

Responses to this public notice will allow BOEM to determine, pursuant to 30 CFR 585.306, whether or not there is competitive interest in acquiring the ROW grant area ADP requested, as described in this notice. In addition, this notice provides an opportunity for interested stakeholders to provide comments on the ADP ROW request, including information relating to potential environmental consequences from the proposed project on existing geological, geophysical, and biological (habitat and species) conditions, as well as any potential impacts to existing ocean users (e.g., fishing industry and mariners) in the area described in this notice. If, in response to this notice, BOEM receives one or more indications of competitive interest from qualified entities that wish to transmit renewable energy in the proposed ADP ROW grant area, it may decide to move forward with the ROW grant issuance process using competitive procedures pursuant to 30 CFR 585.308. However, if BOEM receives no qualified competing indications of interest, BOEM may decide to move forward with the ROW grant issuance process using the noncompetitive procedures contained in 30 CFR 585.309.

Background

Statutory Authorization

Under OCSLA subsection 8(p)(1)(C), the Secretary of the Interior (the Secretary) may issue leases or ROWs for activities that produce or support production, transportation, or transmission of energy from sources other than oil or gas, including renewable energy sources. Section 8(p) also requires the Secretary to issue any necessary regulations to carry out this authority. Regulations were issued for this purpose on April 29, 2009, and are codified in BOEM regulations at 30 CFR part 585. The Secretary has delegated the authority to issue leases, easements, and ROWs to the Director of BOEM.

Determination of Competitive Interest and Granting Process

BOEM will evaluate indications of competitive interest in the ROW grant area ADP requested to install cables for the transmission of renewable electricity, and will determine whether there is competitive interest in accordance with 30 CFR 585.307. At the conclusion of the comment period for this public notice, BOEM will review the submissions received to ensure that they are complete and that the submitters are qualified to hold a ROW grant under 30 CFR 585.106 and 107, and then will make its competitiveness determination.

BOEM may find that competitive interest exists if it receives a proposal to acquire an OCS ROW grant that cannot coexist with ADP's proposed activities within its requested grant corridor. In rendering its determination regarding competitive interest, BOEM will analyze whether the proposal by ADP would prevent a known competitor's subsequent, or parallel, use of the area for renewable energy transmission. Under BOEM's regulations at 30 CFR 585.302(b)(1), the rights accorded in a ROW grant do not prevent the issuance of other rights in the same area, provided that any subsequent rights BOEM grants in the area of a previously issued ROW grant do not unreasonably interfere with activities approved under the previously-issued ROW grant. Consequently, if you have an interest in obtaining a commercial lease for generating offshore wind energy in the area of ADP's ROW grant request, it is not necessary to submit indications of interest in response to this notice to protect your interest in obtaining a lease. This is because BOEM could issue a lease for generating offshore wind energy in the same area as the ROW, so long as the lease activities do not unreasonably interfere with BOEM-approved activities on the ROW grant.

If BOEM determines that competitive interest exists, it may decide to proceed with the competitive granting process outlined in 30 CFR 585.308. If BOEM determines that there is no competitive interest in the proposed grant area, it will publish in the Federal Register a notice that there is no competitive interest. At that point, BOEM may decide to proceed with the noncompetitive grant issuance process pursuant to 30 CFR 585.306(b). If BOEM issues a ROW grant to ADP, ADP would need to conduct any construction activities on the ROW pursuant to a BOEM-approved General Activities Plan (GAP) pursuant to 30 CFR 585.600(c).

Whether BOEM proceeds with the competitive or noncompetitive grant process, it will consult and coordinate with relevant Federal agencies, affected tribes, and affected state and local governments in issuing a grant; developing grant terms and conditions; and deciding whether to approve, disapprove, or approve with modifications any activities proposed in a GAP.

Environmental Review and Permitting Process

Prior to issuing any ROW grant or authorizing any construction activities on that ROW grant, BOEM would conduct a site-specific environmental review under the National Environmental Policy Act, during which it would act as the lead agency, coordinate with cooperating or consulting Federal agencies, and provide additional opportunities for public comment. BOEM would also participate in associated consultations under the Coastal Zone Management Act, the Endangered Species Act (ESA), the Magnuson-Stevens Fishery Conservation and Management Act, the National Historic Preservation Act (NHPA), Executive Order 13175, and other laws, regulations, and authorities determined necessary throughout the process.

Description of the Grant Request

The area for which ADP has requested a ROW grant is located on the OCS off the coasts of New York and New Jersey. A ROW grant corridor, in which a cable, pipeline, or associated facility is located, is generally 200 feet in width centered on the cable and includes areas for the associated facilities limited to the area reasonably necessary for the OCP's or other necessary accessory facilities (30 CFR 585.301). The requested grant corridor crosses portions of the following OCS blocks:

Protraction No. | Lease block | Protraction No. | Lease block
NK18-12 | 6457 | NJ18-03 | 6001
NK18-12 | 6458 | NJ18-03 | 6002
NK18-11 | 6540 | NJ18-03 | 6003
NK18-12 | 6501 | NJ18-03 | 6004
NK18-12 | 6505 | NJ18-03 | 6053
NK18-12 | 6506 | NJ18-03 | 6054
NK18-12 | 6507 | NJ18-03 | 6055
NK18-12 | 6508 | NJ18-03 | 6104
NK18-12 | 6509 | NJ18-03 | 6105
NK18-12 | 6551 | NJ18-03 | 6152
NK18-12 | 6552 | NJ18-03 | 6153
NK18-12 | 6555 | NJ18-03 | 6154
NK18-12 | 6558 | NJ18-03 | 6155
NK18-12 | 6559 | NJ18-02 | 6240
NK18-12 | 6560 | NJ18-03 | 6201
NK18-12 | 6561 | NJ18-03 | 6202
NK18-12 | 6562 | NJ18-03 | 6203
NK18-12 | 6601 | NJ18-02 | 6289
NK18-12 | 6602 | NJ18-02 | 6290
NK18-12 | 6604 | NJ18-03 | 6251
NK18-12 | 6605 | NJ18-02 | 6338
NK18-12 | 6610 | NJ18-02 | 6339
NK18-12 | 6611 | NJ18-02 | 6340
NK18-12 | 6612 | NJ18-02 | 6387
NK18-12 | 6652 | NJ18-02 | 6388
NK18-12 | 6653 | NJ18-02 | 6389
NK18-12 | 6654 | NJ18-02 | 6437
NK18-12 | 6661 | NJ18-02 | 6438
NK18-12 | 6662 | NJ18-02 | 6487
NK18-12 | 6702 | NJ18-02 | 7078
NK18-12 | 6703 | NJ18-02 | 7079
NK18-12 | 6704 | NJ18-02 | 7128
NK18-12 | 6711 | NJ18-02 | 7129
NK18-12 | 6712 | NJ18-05 | 6028
NK18-12 | 6713 | NJ18-05 | 6029
NK18-12 | 6714 | NJ18-05 | 6078
NK18-12 | 6715 | NJ18-05 | 6079
NK18-12 | 6752 | NJ18-02 | 6831
NK18-12 | 6753 | NJ18-02 | 6832
NK18-12 | 6754 | NJ18-02 | 6833
NK18-12 | 6764 | NJ18-02 | 6881
NK18-12 | 6765 | NJ18-02 | 6882
NK18-12 | 6802 | NJ18-02 | 6930
NK18-12 | 6803 | NJ18-02 | 6931
NK18-12 | 6804 | NJ18-02 | 6979
NK18-12 | 6851 | NJ18-02 | 6980
NK18-12 | 6852 | NJ18-02 | 6981
NK18-12 | 6853 | NJ18-02 | 7029
NK18-12 | 6854 | NJ18-02 | 7030
NK18-11 | 6939 | NJ18-02 | 6537
NK18-11 | 6940 | NJ18-02 | 6538
NK18-12 | 6901 | NJ18-02 | 6585
NK18-12 | 6902 | NJ18-02 | 6586
NK18-11 | 6989 | NJ18-02 | 6587
NK18-11 | 6990 | NJ18-02 | 6635
NK18-12 | 6951 | NJ18-02 | 6636
NK18-11 | 7039 | NJ18-02 | 6684
NK18-11 | 7040 | NJ18-02 | 6685
NK18-11 | 7089 | NJ18-02 | 6686
NK18-11 | 7090 | NJ18-02 | 6733
NK18-12 | 7051 | NJ18-02 | 6734
NK18-11 | 7140 | NJ18-02 | 6735
NK18-12 | 7101 | NJ18-02 | 6781
NK18-12 | 7102 | NJ18-02 | 6782
NK18-12 | 7103 | NJ18-02 | 6783
|  | NJ18-02 | 6784

BOEM requests public comments and indications of competitive interest in the ROW grant area identified by this notice. The centerline of the eventual ROW grant may be adjusted based on the results of future surveys or new information obtained from stakeholder outreach and public comments, but the proposed project, if approved, is expected to occur within the listed lease blocks.

Map of the Area

You can find a map of the area proposed for a ROW grant at the following URL: https://www.boem.gov/Renewable-Energy-Program/State-Activities/Regional-Proposals.aspx. A large-scale map of the RFCI area showing boundaries of the area is available from BOEM upon request to the contact listed in the FOR FURTHER INFORMATION CONTACT section above.

Multiple Use Considerations

BOEM has identified the following multiple use issues through early coordination and outreach efforts:

Department of Defense

The Department of Defense (DoD) conducts offshore testing, training, and operations on the Atlantic above the OCS. BOEM would consult with the DoD on any activities proposed on the requested ROW grant to ensure that they are compatible with DoD activities on the Atlantic above the OCS.

Shipping Traffic

Shipping traffic occurs within the vicinity of the requested ROW grant. BOEM will coordinate with the United States Coast Guard to avoid or minimize potential conflicts.

Protected Resources

Several species of birds, marine mammals, sea turtles, and fish listed as threatened or endangered under the ESA may occur permanently or seasonally in the proposed ROW grant area. Protection of such species falls within the jurisdiction of the United States Fish and Wildlife Service (FWS) or the NOAA National Marine Fisheries Service (NMFS). The proposed route would cross North Atlantic right whale habitat and would therefore likely require consultation with NMFS to ensure adequate protection through mitigation measures. In addition to ESA-listed species, the area likely contains, seasonally or permanently, seabirds protected under the Migratory Bird Treaty Act and marine mammals protected under the Marine Mammal Protection Act. BOEM will coordinate with the FWS and NMFS to avoid, mitigate, and/or minimize potential impacts to the resources under their jurisdiction.

Existing Infrastructure

The proposed ROW grant crosses international fiber optic telecommunications cable. In order to construct its proposed project, ADP is expected to establish crossing agreements with their owners and ensure that installation activities do not cause any disruption to service, maintenance, or decommissioning, or otherwise damage those pipelines and cables identified by the affected parties.

Fisheries and Essential Fish Habitat

Portions of the area identified are used by the commercial and recreational fishing industry, and NMFS has designated essential fish habitat (EFH) in much of the area. Consultations with NMFS may be required to identify measures to avoid and minimize impacts on EFH during the siting and installation phases of development.

Required Indication of Competitive Interest Information

If you intend to submit an indication of competitive interest for a ROW grant for the area identified in this notice for the purpose of transmitting electricity generated from a renewable source, you must provide the following:

(1) Documentation demonstrating that you are legally qualified to hold a lease or grant in accordance with the requirements of 30 CFR 585.106 and 585.107(c). Examples of the documentation appropriate for demonstrating your legal qualifications and related guidance can be found in Chapter 2 and Appendix B of the BOEM Renewable Energy Framework Guide Book available at: http://www.boem.gov/REnGuidebook03/. The documents you provide to demonstrate your qualifications to hold a lease or grant will be placed in a file kept by BOEM that may be made available for public review. If you wish that any part of your legal qualification documentation be kept confidential, clearly identify what should be kept confidential, and submit it under separate cover (see “Protection of Privileged or Confidential Information Section,” below).

(2) Documentation demonstrating that you are technically and financially capable of constructing, operating, maintaining, and decommissioning the facilities described in (4) below in accordance with the requirements of 30 CFR 585.107(a). Guidance regarding the documentation required to demonstrate your technical and financial qualifications can be found at: http://www.boem.gov/Renewable-Energy-Program/Regulatory-Information/QualificationGuidelines-pdf.aspx. Any documentation you submit to demonstrate your legal, technical, and financial qualifications must be provided to BOEM in both paper and electronic formats. BOEM considers an Adobe PDF file on a storage media device to be an acceptable format for an electronic copy.

(3) A statement that you wish to acquire a renewable energy ROW grant for the proposed grant corridor ADP requested for the NY/NJ Ocean Grid project, and a description of how your proposal would interfere with, or suffer interference from, the proposed project. You should submit any request for a ROW grant that does not conflict with the proposed grant corridor separately pursuant to 30 CFR 585.305.

(4) A description of your objectives, including:

• Devices and infrastructure involved (if your project would require the use of bottom-founded structures such as booster stations, please indicate where those platforms would be located);

• Anticipated capacity;

• How the project would support renewable energy; and

• A statement that the proposed activity conforms with applicable state and local energy planning requirements, initiatives, or guidance.

(5) A schedule of proposed activities, including those leading to commercial operations.

(6) Available and pertinent data and information concerning environmental conditions in the area, including any energy and resource data and information used to evaluate the area.

Further guidance for the qualifications process and requirements is available at: http://www.boem.gov/Renewable-Energy-Program/Regulatory-Information/QualificationGuidelines-pdf.aspx. Your complete submission, including the items identified in (1) through (6) above, must be provided to BOEM in both paper and electronic formats. BOEM considers an Adobe PDF file stored on a compact disc (CD) or portable storage device to be an acceptable format for submitting an electronic copy. Where applicable, you should submit spatial information in a format compatible with ArcGIS in a geographic coordinate system (NAD 83).

It is critical that you provide a complete submission of competitive interest so that BOEM may consider your submission in a timely manner. If BOEM reviews your submission and determines that it is incomplete, BOEM will inform you of this determination and describe the information necessary in order for BOEM to deem your submission complete. If BOEM determines your second submission is also insufficient or that it has not received the requested information by a date BOEM specified, we reserve the right to deem your submission invalid. In such a case, BOEM would not consider your submission.

Requested Information From Interested or Affected Parties

BOEM is also requesting specific and detailed comments from interested or affected parties regarding the following:

(1) The current and future need for a regional transmission system in the proposed area, including utility, available grid connections, economics, efficiency or other relevant metrics.

(2) Whether BOEM should develop a broader strategic approach for regional transmission cables in which BOEM considers limits on the number and location of future ROW grants or, alternatively, processes unsolicited ROW grant requests on a case-by-case basis as it receives them from industry.

(3) Conditions to make such a network compatible with offshore wind projects.

(4) Offshore wind project developer interest in use of regional transmission networks on the OCS.

(5) Geological and geophysical conditions (including bottom and shallow hazards) in the area described in this notice.

(6) Known archaeological, historic or cultural resource sites on the seabed in the area described in this notice.

(7) Multiple uses of the area described in this notice, including navigation (in particular, commercial and recreational vessel usage) and commercial and recreational fisheries.

(8) Potential impacts to existing communication cables.

(9) DoD operational, training, and testing activities (surface and subsurface) in the area described in this notice that may be impacted by the proposed project.

(10) Potential future uses of the area.

(11) Advisable setback distance for other offshore structures, including other cables, and renewable energy structures.

(12) The potential risk to the proposed offshore transmission cable posed by anchors or other hazards, and burial depths that would be required to mitigate such risks.

(13) Relevant environmental and socioeconomic information.

Protection of Privileged or Confidential Information

Freedom of Information Act

BOEM will not disclose privileged or confidential information that you submit if it qualifies for Freedom of Information Act (FOIA) exemption for trade secrets and commercial or financial information, provided that you clearly label the submission with “Contains Confidential Information” and request that BOEM treat it as confidential. Please consider submitting such information as a separate attachment.

BOEM will not treat as confidential any aggregate summaries of such information or comments not containing such confidential or privileged information. Additionally, BOEM will not treat as confidential (1) the legal title of the nominating entity (for example, the name of your company), or (2) the list of whole or partial blocks that you are nominating. Information that is not labeled as privileged or confidential will be regarded by BOEM as suitable for public release.

Personal Identifying Information

BOEM does not consider anonymous comments; please include your name and address as part of your submittal. You should be aware that your entire comment, including your name, address, and your personal identifying information, may be made publicly available at any time. All submissions from identified individuals, businesses and organizations will be available for public viewing on regulations.gov. In order for BOEM to withhold from disclosure your personal identifying information, you must identify any information contained in the submittal of your comments that, if released, would constitute a clearly unwarranted invasion of your personal privacy. You must also briefly describe any possible harmful consequences of the disclosure of information, such as embarrassment, injury or other harm.

National Historic Preservation Act (16 U.S.C. 470w-3(a))

BOEM is required, after consultation with the Secretary, to withhold the location, character, or ownership of historic resources if it determines that disclosure may, among other things, risk harm to the historic resources or impede the use of a traditional religious site by practitioners. Tribal entities should designate as confidential information that falls under Section 304 of the NHPA.

Walter D. Cruickshank,
Acting Director, Bureau of Ocean Energy Management.

[FR Doc. 2019-12962 Filed 6-18-19; 8:45 am]

BILLING CODE 4310-MR-P